FEDERAL COMMUNICATIONS COMMISSION

Notice of Public Information Collection(s) Being Submitted to OMB for Review and Approval

June 29, 2004.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 13, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Les Smith at (202) 418-0217 or via the Internet at Leslie.Smith@fcc.gov.

SUPPLEMENTARY INFORMATION: OMB Control Number: 3060-0980.

Title: Implementation of the Satellite Home Viewer Improvement Act of 1999: Broadcast Signal Carriage Issues, Retransmission Consent Issues, CS Docket Nos. 00-96 and 99-363.

Form Number: N/A.

Type of Review: Revision of currently approved collection.

Respondents: Business or other for-profit entities.

Number of Respondents: 2,600.

Estimated Time per Response: 1 to 5 hours (multiple responses).

Frequency of Response: On occasion and three year reporting requirements.

Total Annual Burden: 7,800 hours.

Total Annual Cost: $260,000.

Privacy Act Impact Assessment: No impact(s).

Needs and Uses: On November 29, 2000, the FCC released a Report and Order, In the Implementation of the Satellite Home Viewer Improvement Act (SHVIA): Broadcast Signal Carriage Issues, Retransmission Consent Issues, CS Docket Nos. 99-363 and 00-96, FCC 00-417. In this Report and Order, the Commission required satellite television providers to provide local-into-local signals of broadcast television stations, while electing for compulsory must-carry or retransmission consent status. On September 5, 2001, the Commission released an Order on Reconsideration, CS Docket No. 00-96, FCC 01-249, which denied petitions for reconsideration. In addition, the Commission, on its own motion, clarified some of the requirements in the earlier Report and Order and amended the satellite broadcast signal carriage rules, 47 CFR section 76.66.

OMB Control Number: 3060-0981.

Title: Part 76, Multichannel Video and Cable Television Service Public File and Notice Rules.

Form Number: N/A.

Type of Review: Extension of currently approved collection.

Respondents: Businesses or other for-profit entities; and State, local or tribal government.

Number of Respondents: 10,800.

Estimated Time per Response: 30 minutes to 3 hours.

Frequency of Response: Recordkeeping and third party disclosure requirements; on occasion, semi-annual and annual reporting requirements.

Total Annual Burden: 43,200 hours.

Total Annual Cost: None.

Privacy Act Impact Assessment: No impact(s).

Needs and Uses: Section 631 of the Communications Act, as amended, provides that at the time of entering into an agreement to provide any cable service or other service to a subscriber and at least once a year thereafter, a cable operator shall provide notice in the form of a separate, written statement to such subscriber which clearly and conspicuously informs the subscriber of (a) the nature of personally identifiable information collected or to be collected with respect to the subscriber and the nature of the use of such information; (b) the nature, frequency, and purpose of any disclosure which may be made of such information, including an identification of the types of persons to whom the disclosure may be made; (c) the period during which such information will be maintained by the cable operator; (d) the times and place at which the subscriber may have access to such information in accordance with section 631 (d); and (e) the limitations provided by section 631 with respect to the collection and disclosure of information by a cable operator and the right of the subscriber under sections 631 (f) and (h) to enforce such limitations. This notice requirement appears in the Communications Act but not in the FCC cable television rules. The Report and Order, 1998 Biennial Review-Multichannel Video and Cable Television Service, CS Docket No. 98-132, FCC 99-12, which was released on September 5, 2000, amended the Commission's cable television rules so that the notice requirement is now referenced in notes at the end of various rule sections. In addition, the Copyright Act requires that cable operators file, on a semi-annual basis, a statement of account with the Licensing Division of the Copyright Office, Library of Congress. The Report and Order amended the Commission's cable television rules so that this filing is now referenced in a note at the end of 47 CFR 76.1800.

Federal Communications Commission.
Marlene H. Dortch,
Secretary.

[FR Doc. 04-15869 Filed 7-13-04; 8:45 am]

BILLING CODE 6712-01-P